FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
February 1, 2018 thru February 28, 2018
02/01/2018
20180647 | G | Dominion Energy, Inc.; SCANA Corporation; Dominion Energy, Inc.
02/02/2018
20180107 | G | Michael S. Dunlap; Great Lakes Higher Education Corporation; Michael S. Dunlap.
20180645 | G | OCM Big Wave Equity Holdings LLC; Billabong International Ltd.; OCM Big Wave Equity Holdings LLC.
20180650 | G | Ascension Health Alliance; Presence Health Network; Ascension Health Alliance.
20180676 | G | KKR European Fund IV L.P.; Unilever N.V.; KKR European Fund IV L.P.
20180677 | G | Grey Mountain Partners Fund III, L.P.; Brambles Limited; Grey Mountain Partners Fund III, L.P.
20180678 | G | AXA S.A.; Maestro Health, Inc.; AXA S.A.
20180682 | G | Alps Electric Co., Ltd.; Alpine Electronics, Inc.; Alps Electric Co., Ltd.
20180685 | G | Fuad El-Hibri; Emergent BioSolutions, Inc.; Fuad El-Hibri.
02/05/2018
20180730 | G | Idera Pharmaceuticals, Inc.; BioCryst Pharmaceuticals, Inc.; Idera Pharmaceuticals, Inc.
02/06/2018
20180611 | G | Warburg Pincus Private Equity XI, L.P.; Dude Solutions Holdings, Inc.; Warburg Pincus Private Equity XI, L.P.
20180654 | G | Corvex Select Equity Master Fund LP; Energen Corporation; Corvex Select Equity Master Fund LP.
20180683 | G | Compass Diversified Holdings; Jeffrey Wayne Palmer; Compass Diversified Holdings.
20180702 | G | GTCR Fund XII/A LP; AP VIII Duke Holdings, L.P.; GTCR Fund XII/A LP.
02/07/2018
20180662 | G | Vista Foundation Fund II, L.P.; KKR 2006 Fund L.P.; Vista Foundation Fund II, L.P.
20180704 | G | SLP BHN Investor, L.L.C.; Blackhawk Network Holdings, Inc.; SLP BHN Investor, L.L.C.
02/08/2018
20180534 | G | W.R. Grace & Co.; Albemarle Corporation; W.R. Grace & Co.
20180623 | G | ABB Ltd; General Electric Company; ABB Ltd.
02/09/2018
20180693 | G | Rocher Participations; Natural Products Group, Inc.; Rocher Participations.
20180698 | G | Michael J. Brown; Euronet Worldwide, Inc.; Michael J. Brown.
20180699 | G | Bureau Veritas S.A.; Joanne Limoges; Bureau Veritas S.A.
20180700 | G | USA Compression Partners, LP; Energy Transfer Partners, L.P.; USA Compression Partners, LP.
20180705 | G | Edgewell Personal Care Company; Jeff and Curran Dandurand; Edgewell Personal Care Company.
20180707 | G | Archrock, Inc.; Archrock Partners, L.P.; Archrock, Inc.
20180710 | G | Ardian LBO Fund VI A S.L.P.; Les Derives Resiniques et Terpeniques S.A.; Ardian LBO Fund VI A S.L.P.
20180713 | G | Royal Dutch Shell plc; Silicon Ranch Corporation; Royal Dutch Shell plc.
20180715 | G | Wolong Electric Group Co., Ltd.; General Electric Company; Wolong Electric Group Co., Ltd.
20180716 | G | Green Equity Investors Side VII, L.P.; AEA Investors Fund V LP; Green Equity Investors Side VII, L.P.
20180718 | G | NGP Natural Resources XI, L.P.; Bill Barrett Corporation; NGP Natural Resources XI, L.P.
20180720 | G | Lincoln National Corporation; Liberty Mutual Holding Company Inc.; Lincoln National Corporation.
02/12/2018
20180681 | G | Amdocs Limited; Vubiquity Holdings, Inc.; Amdocs Limited.
20180708 | G | RELX PLC; ThreatMetrix, Inc.; RELX PLC.
20180709 | G | RELX NV; ThreatMetrix, Inc.; RELX NV.
20180726 | G | Genstar Capital Partners VI, L.P.; Action Acquisition Holding, Inc.; Genstar Capital Partners VI, L.P.
20180733 | G | Lithia Motors, Inc.; Deborah Lee (Numrich) Flaherty; Lithia Motors, Inc.
20180734 | G | Keller Group plc; Moretrench American Corporation; Keller Group plc.
02/13/2018
20180656 | G | Baxter International Inc.; Mallinckrodt plc; Baxter International Inc.
02/15/2018
20171961 | G | CoStar Group, Inc.; Landmark Media Enterprises, LLC; CoStar Group, Inc.
20180651 | G | UnitedHealth Group Incorporated; Reliant Medical Group, Inc.; UnitedHealth Group Incorporated.
20180729 | G | BioCryst Pharmaceuticals, Inc.; Idera Pharmaceuticals, Inc.; BioCryst Pharmaceuticals, Inc.
02/16/2018
20180739 | G | New Mountain Partners IV, L.P.; Timothy S. O'Donnell; New Mountain Partners IV, L.P.
20180740 | G | New Mountain Partners IV, L.P.; David F. O'Donnell; New Mountain Partners IV, L.P.
20180741 | G | Exponent Private Equity Partners III, LP; Gartner, Inc.; Exponent Private Equity Partners III, LP.
20180742 | G | Internap Corporation; Zak Boca; Internap Corporation.
20180743 | G | Internap Corporation; Daniel Ushman; Internap Corporation.
20180744 | G | Greenbriar Equity Fund III, L.P.; Monitor Clipper Equity Partners III, L.P.; Greenbriar Equity Fund III, L.P.
20180746 | G | The Resolute Fund IV, L.P.; Carlisle Companies Incorporated; The Resolute Fund IV, L.P.
20180747 | G | The Resolute Fund III, L.P.; Carlisle Companies Incorporated; The Resolute Fund III, L.P.
20180756 | G | Clayton, Dubilier & Rice Fund X, L.P.; Caxton Global Investments Limited; Clayton, Dubilier & Rice Fund X, L.P.
20180757 | G | Clayton Dubilier & Rice Fund X, L.P.; Golden Gate Capital Opportunity Fund, L.P.; Clayton Dubilier & Rice Fund X, L.P.
20180759 | G | Enduring Resources IV, LLC; WPX Energy, Inc.; Enduring Resources IV, LLC.
20180761 | G | Trident VII, L.P.; Gem Topco, LP; Trident VII, L.P.
20180763 | G | Shutterfly, Inc.; Lifetouch Inc.; Shutterfly, Inc.
02/20/2018
20180725 | G | GoDaddy Inc.; Main Street Hub, Inc.; GoDaddy Inc.
20180751 | G | Cerberus Institutional Partners VI, L.P.; OCM Principal Opportunities Fund IV, L.P.; Cerberus Institutional Partners VI, L.P.
20180762 | G | TPG Growth III (A), L.P.; Trivest Fund V, L.P.; TPG Growth III (A), L.P.
20180765 | G | Sinji Yamazaki; Yamazaki Mazak Trading Corporation; Sinji Yamazaki.
20180766 | G | H.I.G. Middle Market LBO Fund II, L.P.; Centerbridge Capital Partners II, L.P.; H.I.G. Middle Market LBO Fund II, L.P.
02/21/2018
20180692 | G | Melrose Industries PLC; GKN plc; Melrose Industries PLC.
02/22/2018
20180758 | G | On Assignment, Inc.; ECS Federal, LLC; On Assignment, Inc.
20180771 | G | SAP SE; Callidus Software Inc.; SAP SE.
02/23/2018
20180703 | G | GI Partners Fund V LP; Doxim Inc.; GI Partners Fund V LP.
20180752 | G | Fresh Del Monte Produce Inc.; Mann Packing Co., Inc.; Fresh Del Monte Produce Inc.
02/26/2018
20180732 | G | Motorola Solutions, Inc.; Avigilon Corporation; Motorola Solutions, Inc.
20180738 | G | Bacardi Limited; John Paul Dejoria; Bacardi Limited.
20180750 | G | CGFSP III Eagle, L.P.; CFGI Holdings, LLC; CGFSP III Eagle, L.P.
20180772 | G | Capgemini SE; LiquidHub, Inc.; Capgemini SE.
20180777 | G | Newco; Golden Gate Capital Opportunity Fund, L.P.; Newco.
20180778 | G | Mr. Jose Ignacio Vicente Sala Milego, Sr.; Gerdau S.A.; Mr. Jose Ignacio Vicente Sala Milego, Sr.
20180779 | G | Mr. Juan Carlos Sala Milego; Gerdau S.A.; Mr. Juan Carlos Sala Milego.
20180780 | G | Sentinel Capital Partners V, L.P.; James Sheffield; Sentinel Capital Partners V, L.P.
20180786 | G | American International Group, Inc.; Validus Holdings, Ltd.; American International Group, Inc.
20180788 | G | Ivory Super Holdco, Inc.; Avista Capital Partners III, L.P.; Ivory Super Holdco, Inc.
20180791 | G | PES Inc.; PES Holdings, LLC; PES Inc.
20180802 | G | Barry Diller; Expedia Inc.; Barry Diller.
20180808 | G | CHG PPC Investor LLC; C.H. Guenther & Son, Incorporated; CHG PPC Investor LLC.
02/28/2018
20180735 | G | Stanley Black & Decker, Inc.; Dubai Holding LLC; Stanley Black & Decker, Inc.
20180754 | G | LogMeln, Inc.; Jive Communications, Inc.; LogMeln, Inc.
20180789 | G | American Securities Partners VII, L.P.; PMHC II, Inc.; American Securities Partners VII, L.P.
20180804 | G | TA XII-A L.P.; Polaris Venture Partners IV, L.P.; TA XII-A L.P.
20180807 | G | Curtiss-Wright Corporation; Siemens Aktiengesellschaft; Curtiss-Wright Corporation.
20180816 | G | GIP III Zephyr Acquisition Partners, L.P.; NRG Energy, Inc.; GIP III Zephyr Acquisition Partners, L.P.

For Further Information Contact: Theresa Kingsberry, Program Support Specialist, Federal Trade Commission Premerger Notification Office, Bureau of Competition, Room CC-5301, Washington, DC 20024, (202) 326-3100.

By direction of the Commission.
Donald S. Clark,
Secretary.

[FR Doc. 2018-05249 Filed 3-14-18; 8:45 am]

BILLING CODE 6750-01-P